DEPARTMENT OF THE INTERIOR

National Park Service

[NPS-WASO-NRNHL-DTS#-30753; PPWOCRADI0, PCU00RP14.R50000]

National Register of Historic Places; Notification of Pending Nominations and Related Actions

AGENCY: National Park Service, Interior.

ACTION: Notice.

SUMMARY: The National Park Service is soliciting electronic comments on the significance of properties nominated before August 8, 2020, for listing or related actions in the National Register of Historic Places.

DATES: Comments should be submitted electronically by September 8, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before August 8, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARKANSAS

Baxter County

Galatia Church, West side AR 5, north of jct. with Havner Rd., Norfolk vicinity, SG100005579

Craighead County

Bridge Street Bridge, (Historic Bridges of Arkansas MPS), Bridge St. between Johnson and Cate Aves., Jonesboro, MP100005580

Citizens Bank Building, 100 West Washington St., Jonesboro, SG100005581

Fuller-Shannon House, 1408 Twin Oaks Ave., Jonesboro, SG100005582

Faulkner County

Titan II ICBM Launch Complex Site 373-9, (Cold War Resources Associated with the 308th Strategic Missile Wing in Arkansas MPS), 23 Missile Base Rd., Vilonia, MP100005583

Nevada County

Prescott & Northwestern Railroad Caboose No. 3, 403 West 1st St. South, Prescott, SG100005585

Pulaski County

Little Rock Fire Station No. 9, 2023 East 6th St., Little Rock, SG100005587

Presbyterian Village, 510 Brookside Dr., Little Rock, SG100005589

Fair Park Golf Course, 5511 West Markham St., Little Rock, SG100005596

Saline County

International Harvester Servicenter, 1124 Military Rd., Benton, SG100005591

Searcy County

Snowball Gymnasium, Cty. Rd. 12, .1 mile west of Harvest Ln., Snowball, SG100005592

Washington County

Hindman Hall Museum, 14262 West US 62, Prairie Grove, SG100005593

Vernon & Moore-McIlroy Produce Warehouse, 200 North West Ave., Fayetteville, SG100005594

Woolsey Farmstead Cemetery, 535 South Broyles Rd., Fayetteville, SG100005595

FLORIDA

Pasco County

Oelsner Mound Archaeological Site, Address Restricted, Port Richey vicinity, SG100005561

IOWA

Benton County

Preston's Station Historic District, 402 4th Ave., Belle Plaine, SG100005572

Grundy County

Grundy Center High School, 1001 8th St., Grundy Center, SG100005565

Muscatine County

Ijem Avenue Commercial Historic District, Ijem Ave. between Railroad St. and Main St., Nichols, SG100005566

Polk County

Acadian Manor Historic District, 2801-2815 Grand Ave., Des Moines, SG100005567

LOUISIANA

West Baton Rouge Parish, D'Agostino Building, 110 North Jefferson Ave., Port Allen, SG100005598

MISSISSIPPI

Hinds County

Old Terminal Building, Hawkins Field, Airport Dr., Jackson, SG100005578

Jones County

Southside Neighborhood Historic District, Roughly bounded by North Pine and East 5th Sts., North and South Walters, South 4th and South 9th Aves., East Jackson, Limbert, Johnson, and North and South Maple Sts., Laurel, SG100005573

NEVADA

Washoe County

Trinity Episcopal Cathedral, 200 Island Ave., Reno, SG100005599

NEW YORK

Chautauqua County

Forest Heights Historic District, Forest Park, Warner Pl., Terrace Pl., Lilac Ln., McKinley Ave., 70-201 Forest Ave., 10-204 Prather Ave., 32-102 and 39-123 Prospect St., 117-153 South Main St., 6 and 11 Broadhead Ave., 67 Washington St., Jamestown, SG100005570

Orange County

Colden Hill Farm, 181 North Drury Ln., Newburgh vicinity, SG100005568

Queens County

Voelcker, Conrad, House, 149-19 38th Ave., Flushing, SG100005569

OHIO

Cuyahoga County

Eleanor B. Rainey Memorial Institute, 1523 East 55th St., Cleveland, SG100005571

OKLAHOMA

Creek County

House Building, 301-305 North Main St., Bristow, SG100005554

Kay County

Kimbrough Temple C.M.E. Church, 1029 South 12th St., Ponca City, SG100005555

Nickles Machine Shop, 600 South 1st St., Ponca City, SG100005556

Alcorn-Pickrel House, 200 North 10th St., Ponca City, SG100005564

Le Flore County

Old City Hall, Theater and Masonic Lodge, 401 East 1st St., Heavener, SG100005557

Oklahoma County

Heritage Hills East Historic District, Bounded by NW 14th Street, North Broadway Ave., NW 22nd St., and North Robinson Ave., Oklahoma City, SG100005558

Villa Teresa Historic District, 1212, 1216, 1228, and 1300 Classen Dr., Oklahoma City, SG100005559

PENNSYLVANIA

Schuylkill County

Mothers' Memorial, Hoffman Memorial, and Veterans' Memorial, Roughly Hoffman Blvd. from Brock St. to Market St., and between Chestnut St. and Market St. at the north end of 5th St., Ashland, SG100005552

UTAH

Salt Lake County

Murray Downtown Residential Historic District (Boundary Increase), (Murray City, Utah MPS), Roughly bounded by 4600 South, Meadowview Rd., 4800 South, Brown St. Murray, BC100005563

VIRGINIA

Greene County

Long, A.J., Mill, 4147 Simmons Gap Rd., Free Union vicinity, SG100005576

An owner objection has been received for the following resource:

ARKANSAS

Pulaski County

Boy Scouts of America Building, 3220 Cantrell Rd., Little Rock, SG100005600

A request for removal has been made for the following resources:

ARKANSAS

Monroe County

Highway 79 Bridge, (Clarendon MRA), US 79 and White R., Clarendon, OT84000190

Poinsett County

Maxie Theatre, 136 AR 463 South, Trumann, OT10000933

Pulaski County

Matthews, Mary H., Lustron House, 5021 Maryland Ave., Little Rock, OT14000249

A request to move has been received for the following resource:

ALASKA

Matanuska-Susitna Borough

Wasilla Depot, Parks Hwy. and Knik Rd., Wasilla, MV77000218

Additional documentation has been received for the following resources:

ARKANSAS

Pulaski County

Taborian Hall (Additional Documentation), 9th and State Sts., Little Rock, AD82002130

MASSACHUSETTS

Suffolk County

Fairview Cemetery (Additional Documentation), 45 Fairview Ave., Boston, AD09000717

OKLAHOMA

Beaver County

Turpin Grain Elevator (Additional Documentation), (Woodframe Grain Elevators of Oklahoma Panhandle TR), Off US 64, Turpin, AD83002071

Creek County

Sapulpa Downtown Historic District (Additional Documentation), Roughly bounded by Hobson Ave., Elm St., Lee Ave., and Main St., Sapulpa, AD02000975

Nomination submitted by Federal Preservation Officer:

The State Historic Preservation Officer reviewed the following nomination and responded to the Federal Preservation Officer within 45 days of receipt of the nomination and supports listing the property in the National Register of Historic Places.

OKLAHOMA

Pittsburg County

Mine Rescue Station Building (Additional Documentation), 507-509 E 3rd St., McAlester, AD80004290

Authority: Section 60.13 of 36 CFR part 60.

Dated: August 12, 2020.
Sherry A. Frear,
Chief, National Register of Historic Places/National Historic Landmarks Program.

[FR Doc. 2020-18374 Filed 8-20-20; 8:45 am]

BILLING CODE 4312-52-P